DEPARTMENT OF HEALTH AND HUMAN SERVICES

Centers for Disease Control and Prevention

Advisory Committee on Immunization Practices: Announcement of Meeting and Request for Comments on Formulating Recommendations for the Use of Vaccinia (Smallpox) Vaccine

In accordance with section 10(a)(2) of the Federal Advisory Committee Act (Pub. L. 92-463), the Centers for Disease Control and Prevention (CDC) announces the following committee meeting:

Name: Advisory Committee on Immunization Practices (ACIP).

Times and Dates: 8:30 a.m.-5:30 p.m., June 19, 2002.

8 a.m.-3 p.m., June 20, 2002.

Place: Atlanta Marriott Century Center, 2000 Century Boulevard, NE., Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters To Be Discussed: The Committee will discuss, among other items, the administration of vaccinia (smallpox) vaccine. Because of the considerable interest in the use of vaccinia (smallpox) vaccine, there will be a public comment period on the morning of June 19, not to exceed four hours, during which members of the public will be able to address the ACIP members on making recommendations for the use of vaccinia (smallpox) vaccine. Other topics to be discussed at the meeting include: a summary of the May 8-9 Smallpox Working Group meeting; update on CDC preparedness activities; public participation in formulating vaccine policy; update from the National Immunization Program, Food and Drug Administration, Vaccine Injury Compensation Program, National Institutes of Health, National Vaccine Program, and the National Center for Infectious Diseases; ACIP recommendations and influenza surveillance; Vaccines for Children vote on influenza vaccination of children 6-23 months; recommendations for mishandled vaccines; 2003 recommended childhood immunization schedule; recommended adult immunization schedule; update of vaccine supply; Institute of Medicine update on hepatitis B vaccine and neurological disorders; and combination DTaP-HepB-IPV vaccine.

Agenda items are subject to change as priorities dictate.

Anyone wishing to make an oral presentation should submit their request in writing, to the contact person by close of business June 7, 2002. The request should include the name, address, and telephone number of the participant; the approximate time needed, and a copy of the presentation or a brief summary of the topic to be presented. Depending on the number of requests, up to 10 minutes will be allowed for each oral presentation. Anyone wishing to submit for consideration written comments regarding the use of vaccinia (smallpox) vaccine should submit the written comments to the contact person by June 14, 2002.

Contact Person for More Information: Gloria A. Kovach, Program Analyst, Epidemiology and Surveillance Division, National Immunization Program, CDC, 1600 Clifton Road, NE, m/s E61, Atlanta, Georgia 30333. Telephone 404/639-8096.

The Director, Management Analysis and Services Office, has been delegated the authority to sign Federal Register notices pertaining to announcements of meetings and other committee management activities for both the Centers for Disease Control and Prevention and the Agency for Toxic Substances and Disease Registry.

Dated: May 9, 2002.
Alvin Hall,
Acting Director, Management Analysis and Services Office, Centers for Disease Control and Prevention.

[FR Doc. 02-12231 Filed 5-15-02; 8:45 am]

BILLING CODE 4163-18-P